DEPARTMENT OF COMMERCE

Minority Business Development Agency

Agency Information Collection Activities; Submission for OMB Review; Comment Request; MBDA National Minority Enterprise Awards Program Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on August 26, 2024, during a 60-day comment period. This notice allows for an additional 30 days for public comments.

Agency: Minority Business Development Agency (MBDA), Commerce.

Title: MBDA National Minority Enterprise Awards Program Requirements.

OMB Control Number: 0640-0025.

Form Number(s): None.

Type of Request: Regular; Revision of a currently approved collection.

Number of Respondents: 250.

Average Hours per Response: 1 hour.

Burden Hours: 250.

Needs and Uses: One of MBDA's largest initiatives is the annual National Minority Enterprise Development (MED) Week Conference. The conference recognizes the role that minority entrepreneurs play in building the American economy through the creation of jobs, products and services, in addition to supporting their local communities. It includes the private, non-profit, and government sectors and provides a venue to discuss critical business issues affecting minority business as well as strategies to foster the growth and competitiveness of the minority business community. The MED Week Awards Program is a key element in the conference as it celebrates the outstanding achievements of minority entrepreneurs. MBDA has created categories of awards including Minority Construction Firm of the Year, Minority Manufacturer of the Year, Minority Retail or Service Firm of the Year, Minority Technology Firm of the Year, Minority Supplier Distributor of the Year, Media Award, Distinguished Supplier Diversity Award, Access to Capital Award, the Ronald H. Brown Leadership Award, and the Abe Venable Award for Lifetime Achievement. Nominations for these awards are to be opened to the public. MBDA must collect two kinds of information: (a) Information identifying the nominee and nominator and (b) information explaining why the nominee should be given the award. The information will be used to determine those applicants best meeting the pre-announced selection criteria. Use of a nomination form standardizes and limits the information collected as part of the nomination process. This makes the competition fair and eases any burden on applicants and reviewers alike. Participation in the competition is voluntary. The awards are strictly honorary.

Affected Public: Business or other for-profit organizations; not-for-profit institutions; State, local, or tribal government; Federal government.

Frequency: Annually.

Respondent's Obligation: Voluntary.

This information collection request may be viewed at www.reginfo.gov. Follow the instructions to view the Department of Commerce collections currently under review by OMB.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0640-0025.

Sheleen Dumas,
Departmental PRA Clearance Officer, Office of the Under Secretary of Economic Affairs, Commerce Department.

[FR Doc. 2024-24927 Filed 10-24-24; 8:45 am]

BILLING CODE 3510-21-P